SOCIAL SECURITY ADMINISTRATION

[Docket No: SSA-2021-0054]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2021-0054].

(SSA) Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2021-0054].

I.

The information collection below is pending at SSA. SSA will submit it to OMB within 60 days from the date of this notice. To be sure we consider your comments, we must receive them no later than March 4, 2022. Individuals can obtain copies of the collection instrument by writing to the above email address.

Farm Self-Employment Questionnaire—20 CFR 404.1082(c) & 404.1095—0960-0061. SSA collects the information on Form SSA-7156 on a voluntary and as-needed basis to determine the existence of an agriculture trade or business which may affect the monthly benefit, or insured status, of the applicant. SSA requires the existence of a trade or business before determining if an individual or partnership has net earnings from self-employment. When an applicant indicates self-employment as a farmer, SSA uses the SSA-7165 to obtain the information we need to determine the existence of an agricultural trade or business, and subsequent covered earnings for Social Security entitlement purposes. As part of the application process, we conduct a personal interview, either face-to-face or via telephone, and document the interview using Form SSA-7165. We also allow applicants to complete a fillable version of the form available on our website, which they can complete, print, and sign. The respondents are applicants for Social Security benefits whose entitlement depends on whether the worker received covered earnings from self-employment as a farmer.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-7156 | 1,000 | 1 | 10 | 167 | * $14.49 | ** 21 | *** $7,491
* We based this figure on average Farmworkers and Laborers, Crop, Nursery, and Greenhouse salaries as reported by Bureau of Labor Statistics data (https://www.bls.gov/oes/current/oes452092.htm).
** We based this figure on averaging both the average FY 2021 wait times for field offices and teleservice centers, based on SSA's current management information data.
*** This figure does not represent actual costs that SSA is imposing on recipients of Social Security payments to complete this application; rather, these are theoretical opportunity costs for the additional time respondents will spend to complete the application. There is no actual charge to respondents to complete the application.

II.

SSA submitted the information collections below to OMB for clearance. Your comments regarding these information collections would be most useful if OMB and SSA receive them 30 days from the date of this publication. To be sure we consider your comments, we must receive them no later than February 2, 2022. Individuals can obtain copies of these OMB clearance packages by writing to OR.Reports.Clearance@ssa.gov.

1. Application for a Social Security Number Card, the Social Security Number Application Process (SSNAP), and internet SSN Replacement Card (iSSNRC) Application—20 CFR 422.103—422.110—0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. Respondents can also use these modalities to request a change in their SSN records. In addition, the iSSNRC internet application collects information similar to the paper SS-5 for no-change replacement SSN cards for adult U.S. citizens. The iSSNRC modality allows certain applicants for SSN replacement cards to complete the internet application and submit the required evidence online rather than completing a paper Form SS-5. Finally, oSSNAP collects information similar to that which we collect on the paper SS-5 for no change situations, with the exception of name change, new or replacement SSN cards for U.S. Citizens (adult and minor children), and replacement cards only for non-U.S. citizens. oSSNAP allows these applicants for new or replacement SSN cards to start the application process on-line, receive a list of evidentiary documents, and then submit the application data to SSA for further processing by SSA employees. Applicants need to visit a local SSA office to complete the application process. The respondents for this information collection are applicants for original and replacement Social Security cards, or individuals who wish to change information in their SSN records, who use any of the modalities described above.

Type of Request: Revision of an OMB-approved information collection.

Application scenario | Number of respondents | Frequency of response | Average burden per response (minutes) | Estimated total annual burden (hours) | Average theoretical hourly cost amount (dollars) * | Average wait time in field office (minutes) ** | Total annual opportunity cost (dollars) ***
EAB Modality
Hospital staff who relay the State birth certificate information to the BVS and SSA through the EAB process | 3,587,284 | 1 | 5 | 298,857 | * $23.74 | ** 0 | *** $7,094,865
iSSNRC Modality
Adult U.S. Citizens requesting a replacement card with no changes through the iSSNRC | 3,141,061 | 1 | 5 | 261,755 | * 25.72 | ** 0 | *** 6,732,341
Adult U.S. Citizens requesting a replacement card with a name change through iSSNRC | 44,818 | 1 | 5 | 3,735 | 25.72 | ** 0 | *** 96,060
oSSNAP Modality
Adult U.S. Citizens providing information to receive a replacement card through the oSSNAP + | 866,575 | 1 | 5 | 72,215 | * 25.72 | ** 24 | *** 10,772,683
Adult U.S. Citizens providing information to receive an original card through the oSSNAP + | 31,521 | 1 | 5 | 2,627 | 25.72 | * 24 | *** 391,848
Adult Non-U.S. Citizens providing information to receive an original card through the oSSNAP + | 114,429 | 1 | 5 | 9,536 | 25.72 | ** 24 | *** 1,422,505
Adult Non-U.S. Citizens providing information to receive a replacement card through the oSSNAP + | 63,925 | 1 | 5 | 5,327 | 25.72 | ** 24 | 794,673
SSNAP/SS-5 Modality
Respondents who do not have to provide parents' SSNs | 2,791,499 | 1 | 9 | 418,725 | * 25.72 | ** 24 | *** 39,488,545
Respondents whom we ask to provide parents' SSNs (when applying for original SSN cards for children under age 12) | 102,258 | 1 | 9 | 15,339 | * 25.72 | ** 24 | *** 1,446,542
Applicants age 12 or older who need to answer additional questions so SSA can determine whether we previously assigned an SSN | 335,587 | 1 | 10 | 55,931 | * 25.72 | ** 24 | *** 4,891,069
Applicants asking for a replacement SSN card beyond the allowable limits (i.e., who must provide additional documentation to accompany the application) | 2,428 | 1 | 60 | 2428 | * 25.72 | ** 24 | *** 87,427
Enumeration Quality Review
Authorization to SSA to obtain personal information cover letter | 500 | 1 | 15 | 125 | * 25.72 | ** 24 | *** 8,359
Authorization to SSA to obtain personal information follow-up cover letter | 500 | 1 | 15 | 125 | * 25.72 | ** 24 | *** 8,359
Grand Total
Totals | 11,081,385 |  |  | 1,146,724 |  |  | *** 73,235,275
+ The number of respondents for this modality is an estimate based on google analytics data for the SS-5 form downloads from SSA.Gov.
* We based this figure on average Hospital Records Clerks (https://www.bls.gov/oes/current/oes292098.htm), and average U.S. worker's hourly wages (https://www.bls.gov/oes/current/oes_nat.htm#00-0000) as reported by the U.S. Bureau of Labor Statistics.
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

2. Statement of Household Expenses and Contributions—20 CFR 416.1130-416.1148—0960-0456. SSA bases eligibility for Supplemental Security Income (SSI) on the needs of the recipient. In part, we assess need through determining the amount of income a recipient receives. This income includes in-kind support and maintenance in the form of food and shelter home owners provide. SSA uses Form SSA-8011-F3, Statement of Household Expenses and Contributions, to determine whether the claimant or recipient receives in-kind support and maintenance. This is necessary to determine: (1) The claimant's or recipient's eligibility for SSI, and (2) the SSI payment amount. SSA only uses this form in cases where SSA needs the householder's (head of household) corroboration of in-kind support and maintenance. The SSA-8011-F3 provides information, which could affect SSI eligibility and payment amount. An SSA claims specialist collects the information on Form SSA-8011-F3 through telephone contact with the respondents, or through face-to-face interviews. The claims specialist records the information in our electronic SSI Claims System. When we use this procedure, we do not use a paper Form SSA-8011-F3, and we do not require a wet signature, rather we request verbal attestation. However, for those few instances when we use a paper form, we ensure the appropriate person, i.e., the householder, signs the form, and then the claims specialist documents the information in the SSI Claims System; faxes the form into the appropriate electronic folder; and shreds the form. Respondents are householders of homes in which an SSI applicant or recipient resides.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-8011-F3 (Paper) | 21,000 | 1 | 15 | 5,250 | * $27.07 | ** 21 | *** $341,082
Interview (MCS) | 398,759 | 1 | 15 | 99,690 | * 27.07 | ** 21 | *** 6,476,660
Totals | 419,759 |  |  | 104,940 |  |  | *** 6,817,742
* We based this figure on the average U.S. worker's hourly wages, as reported by Bureau of Labor Statistics data (https://www.bls.gov/oes/current/oes_nat.htm#00-0000).
** We based this figure on averaging both the average FY 2021 wait times for field offices and teleservice centers, based on SSA's current management information data.
*** This figure does not represent actual costs that SSA is imposing on claimants of Social Security payments to complete this application; rather, these are theoretical opportunity costs for the additional time respondents will spend to complete the application. There is no actual charge to respondents to complete the application.

3. Integrated Registration Services (IRES) System—20 CFR 401.45—0960-0626. The IRES System verifies the identity of individuals, businesses, organizations, entities, and government agencies seeking to use SSA's secured internet and telephone applications. Individuals need this verification to electronically request and exchange business data with SSA. Requestors provide SSA with the information needed to establish their identities. Once SSA verifies identity, the IRES system issues the requestor a user identification number and a password to conduct business with SSA. Respondents are employers; employees; third party submitters of wage data business entities providing taxpayer identification information; appointed representatives; representative payees; and data exchange partners conducting business in support of SSA programs.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
IRES Internet Registrations | 266,210 | 1 | 5 | 22,184 | * $33.66 | ** 0 | *** $746,413
IRES Internet Requestors | 14,472,710 | 1 | 2 | 482,424 | * 33.66 | ** 0 | *** 16,238,392
IRES CS (CSA) Registrations | 15,247 | 1 | 11 | 2,795 | * 33.66 | ** 19 | *** 256,590
Totals | 14,754,167 |  |  | 507,403 |  |  | *** 17,241,695
* We based this figure on average U.S. citizen's hourly salary, as reported by Bureau of Labor Statistics data (https://www.bls.gov/oes/current/oes_nat.htm#00-00000); hourly wages for Information and Record Keeping Analysts hourly salary, as reported by Bureau of Labor Statistics data (https://www.bls.gov/oes/current/oes434199.htm); and average hourly wages for paralegals/legal assistants and lawyers as posted by the U.S. Bureau of Labor Statistics (https://www.bls.gov/oes/current/oes_nat.htm).
** We based this figure on the average FY 2021 wait time for teleservice centers, based on SSA's current management information data.
*** This figure does not represent actual costs that SSA is imposing on claimants of Social Security payments to complete this application; rather, these are theoretical opportunity costs for the additional time respondents will spend to complete the application. There is no actual charge to respondents to complete the application.

4. Site Review Questionnaire for Volume and Fee-for-Service Payees and Beneficiary Interview Form—20 CFR 404.2035, 404.2065, 416.665, 416.701, and 416.708—0960-0633. SSA asks organizational representative payees to complete Form SSA-637, the Site Review Questionnaire for Volume and Fee-for-Service Payees, to provide information on how they carry out their responsibilities, including how they manage beneficiary funds. SSA then obtains information from the beneficiaries these organizations represent via Form SSA-639, Beneficiary Interview Form, to corroborate the payees' statements. Due to the sensitivity of the information, the forms are always completed based on the answers respondents give during the interviews. The respondents are individuals; State and local governments; non-profit and for-profit organizations serving as representative payees; and the beneficiaries they serve.

Type of Request: Revision of an OMB-approved information collection.

Modality of completion | Number of respondents | Frequency of response | Average burden per response (minutes) | Estimated total annual burden (hours) | Average theoretical hourly cost amount (dollars) * | Total annual opportunity cost (dollars) **
SSA-639—Individuals | 22,000 | 1 | 10 | 3,667 | * $19.01 | ** $69,710
SSA-637—Individuals | 500 | 1 | 120 | 1,000 | * 19.01 | ** 19,010
SSA-637—Organizations | 4,500 | 1 | 120 | 9,000 | * 19.03 | ** 171,270
Totals | 27,000 |  |  | 13,667 |  | ** 259,990
* We based the figure for individuals by averaging both the average DI payments based on SSA's current FY 2021 data (https://www.ssa.gov/legislation/2021FactSheet.pdf), and the average U.S. worker's hourly wages, as reported by Bureau of Labor Statistics data (https://www.bls.gov/oes/current/oes_nat.htm). We based the figure for organizations by averaging both the average State and local governments (https://www.bls.gov/oes/current/oes211093.htm), and the average non-profit and for-profit organizations serving as representative payees (https://www.bls.gov/oes/current/oes390000.htm).
** This figure does not represent actual costs that SSA is imposing on recipients of Social Security payments to complete this application; rather, these are theoretical opportunity costs for the additional time respondents will spend to complete the application. There is no actual charge to respondents to complete the application.

5. Request for Reinstatement (Title II)—20 CFR 404.1592b-404.1592f—0960-0742. SSA allows certain previously entitled disability beneficiaries to request expedited reinstatement (EXR) of benefits under Title II of the Social Security Act when their medical condition no longer permits them to perform substantial gainful activity. SSA uses Form SSA-371 to obtain: (1) A signed statement from individuals requesting an EXR of their Title II disability benefits; and (2) proof the requestors meet the EXR requirements. SSA maintains the form in the disability folder of the applicant to demonstrate the requestors' awareness of the EXR requirements, and their choice to request EXR. Respondents are applicants for EXR of Title II disability benefits.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
SSA-371 | 10,000 | 1 | 2 | 333 | * $10.73 | ** 19 | *** $38,325
* We based this figure on the average DI payments based on SSA's current FY 2021 data (https://www.ssa.gov/legislation/2021FactSheet.pdf).
** We based this figure on the average FY 2021 wait time for teleservice centers, based on SSA's current management information data.
*** This figure does not represent actual costs that SSA is imposing on claimants of Social Security payments to complete this application; rather, these are theoretical opportunity costs for the additional time respondents will spend to complete the application. There is no actual charge to respondents to complete the application.

6. Important Information About Your Appeal, Waiver Rights, and Repayment Options—20 CFR 404.502-404.521—0960-0779. When SSA accidentally overpays beneficiaries, the agency informs them of the following rights: (1) The right to reconsideration of the overpayment determination; (2) the right to request a waiver of recovery and the automatic scheduling of a personal conference if SSA cannot approve a request for waiver; and (3) the availability of a different rate of withholding when SSA proposes the full withholding rate. SSA uses Form SSA-3105, Important Information About Your Appeal, Waiver Rights, and Repayment Options, to explain these rights to overpaid individuals and allow them to notify SSA of their decision(s) regarding these rights. The respondents are individuals who are overpaid Social Security payments.

Type of Request: Revision of an OMB approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-3105 (Paper Form) | 500,000 | 1 | 15 | 125,000 | * $10.95 | ** 21 | *** $3,285,000
Debt Management System | 166,666 | 1 | 15 | 41,667 | * 10.95 | ** 21 | *** 1,095,000
Totals | 666,666 |  |  | 166,667 |  |  | *** $4,380,000
* We based this figure on the average DI payments based on SSA's current FY 2021 data (https://www.ssa.gov/legislation/2021FactSheet.pdf).
** We based this figure on averaging both the average FY 2021 wait times for field offices and teleservice centers, based on SSA's current management information data.
*** This figure does not represent actual costs that SSA is imposing on recipients of Social Security payments to complete this application; rather, these are theoretical opportunity costs for the additional time respondents will spend to complete the application. There is no actual charge to respondents to complete the application.

7. Promoting Opportunity Demonstration—0960-0809. Section 823 of the Bipartisan Budget Act of 2015 required SSA to carry out the Promoting Opportunity Demonstration (POD) to test a new benefit offset formula for SSDI beneficiaries. Therefore, SSA is undertaking POD, a demonstration to evaluate the affect the new policy will have on Social Security Disability Insurance (SSDI) beneficiaries and their families in several critical areas. We previously obtained OMB approval for this demonstration and are close to completing the project. In this information collection request, we are seeking to renew the approval for both the POD Monthly Earnings and Impairment-related work Expenses (IRWE) Reporting Form, and the POD End of Year reporting (EOYR) Documentation. The POD implementation team collects earnings and IRWE data from POD treatment group subjects whose monthly earnings exceed the POD threshold. The POD implementation team submits the data it collects from treatment group subjects to SSA. SSA uses the data to apply the POD offset to treatment group subjects' SSDI benefits. Respondents have two options for reporting their earnings and IRWE documentation contained in the POD Monthly Form and the POD EOYR Form: Paper (mail or fax) or an online reporting portal. Respondents are encouraged to submit their earnings and IRWE documentation monthly but can submit it the following year in advance of SSA's end of year reconciliation process. While the collection of the earnings and IRWE data from respondents on the POD Monthly Form and the POD EOYR Forms is voluntary, failure to submit data could result in the inaccurate calculation of SSDI benefits.

Note: We have completed the survey portion of this demonstration project and expect to finish collecting the data by the end of the third quarter of fiscal year 2022.

Respondents are SSDI beneficiaries, who provided written consent before agreeing to participate in the study and whom we randomly assigned to one of the two study treatment groups.

Type of Request: Revision of an OMB-approved information collection.

Modality of completion | Number of respondents | Frequency of response | Number of responses | Average burden per response (minutes) | Estimated total annual burden (hours) | Average theoretical hourly cost amount (dollars) * | Total annual opportunity cost (dollars) **
POD Monthly Earnings and Impairment-related work Expenses (IRWE) Reporting Form—Paper Version (faxed in) | 1,000 | 6 | 6,000 | 40 | 4,000 | * $27.07 | ** $108,280
POD Monthly Earnings and Impairment-related work Expenses (IRWE) Reporting Form—Internet Version | 1,000 | 6 | 6,000 | 5 | 500 | * 27.07 | ** 13,535
POD End of Year reporting (EOYR) Documentation | 2,000 | 1 | 2,000 | 8 | 267 | * 27.07 | ** 7,228
Totals | 4,000 |  | 14,000 |  | 4,767 |  | ** 129,043
* We based this figure on the average U.S. worker's hourly wages (https://www.bls.gov/oes/current/oes_nat.htm#00-0000), as reported by the U.S. Bureau of Labor Statistics.
** This figure does not represent actual costs that SSA is imposing on recipients of Social Security payments to complete this application; rather, these are theoretical opportunity costs for the additional time respondents will spend to complete the application. There is no actual charge to respondents to complete the application.

Dated: December 27, 2021.
Naomi Sipple,
Reports Clearance Officer, Social Security Administration.

[FR Doc. 2021-28387 Filed 12-30-21; 8:45 am]

BILLING CODE 4191-02-P